DEPARTMENT OF TRANSPORTATION

Maritime Administration

[Docket No: MARAD-2006-26228]

Comment Period Extension for Kahului Harbor Draft Environmental Impact Statement (EIS), Maui, HI

AGENCY: Department of Transportation, Maritime Administration.

SUMMARY: The U.S. Department of Transportation Maritime Administration announces an extension to the public comment period for the Kahului Harbor Master Plan Draft Environmental Impact Statement. The Draft EIS addresses the community's needs for commercial harbor facilities through 2030.

DATES: Comments on this Draft EIS must be received by March 28, 2008.

To Comment on the Draft EIS: You can send written comments either to the preparers or to the Federal sponsor—

By Mail: to John Kirkpatrick, Belt Collins Hawaii, 2153 N. King Street, Suite 200, Honolulu, HI 96819.

By Mail: to Docket Management Facility, U.S. Department of Transportation, 1200 New Jersey Avenue, SE., W12-140, Washington, DC 20590.

By the Internet: Follow instructions at the Web site, http://www.regulations.gov. Please identify all comments by the docket number: MARAD-2006-26228. All submissions must include the Agency name and docket number.

FOR FURTHER INFORMATION CONTACT: Address requests for more information related to the EIS or requests to be added to the mailing list for this project to John Kirkpatrick, Belt Collins Hawaii, 2153 N. King Street, Suite 200, Honolulu, HI 96819, e-mail: jkirkpatrick@beltcollins.com. For agency information, please contact Daniel E. Yuska Jr., Environmental Protection Specialist, U.S Maritime Administration, 1200 New Jersey Avenue, SE., Washington, DC 20590, e-mail: daniel.yuska@dot.gov or Dean Watase, Planning Branch, Harbors Division, Hawaii State Department of Transportation, 79 S. Nimitz Highway, Honolulu, HI 96813, e-mail: dean.watase@hawaii.gov.

SUPPLEMENTARY INFORMATION: The Hawaii State Department of Transportation (HI DOT) has previously conducted planning for Kahului Harbor, leading to a 2025 Master Plan and Environmental Assessment. However, demand for harbor facilities has been much greater than anticipated, and space for current operations is very tight. The 2025 Master Plan called for development of new pier and harbor space at the west breakwater of the harbor. HI DOT has conducted a new master planning process, which has led to new alternatives to meet current and future harbor needs. The west breakwater expansion and other steps to help assure that the harbor supports the continuing prosperity and quality of life of Maui County are under consideration.

The Draft EIS addresses the following issues: (1) Demand for additional space and facilities at Kahului; (2) organization of harbor space and facilities to promote and preserve orderly cargo operations, passenger operations, and recreational activity; and (3) environmental impacts of proposed alternatives. The Preferred Alternative involves development of passenger facilities in the west breakwater area, along with expansion of Piers 1 and 2 and development of new cargo handling areas near those piers. Significant impacts could affect corals and surf sites.

Authority: 49 CFR 1.66.

By order of the Maritime Administrator.
Dated: March 13, 2008.
Murray A. Bloom,
Acting Secretary, Maritime Administration.

[FR Doc. E8-5566 Filed 3-18-08; 8:45 am]

BILLING CODE 4910-81-P